SECURITIES AND EXCHANGE COMMISSION

[Release No. 34-44772; File No. SR-CBOE-2001-36]

Self-Regulatory Organizations; the Chicago Board Options Exchange, Inc.; Order Granting Approval to Proposed Rule Change and Amendment No. 1 To Exempt Certain Spread Transactions From the Marketing Fee and To Amend the Definition of Deep-in-the-Money Options To Include a Spread Traded at Maximum Value

September 7, 2001.

On June 21, 2001, the Chicago Board Options Exchange, Inc. (“CBOE”) filed with the Securities and Exchange Commission (“Commission”), pursuant to Section 19(b)(1) of the Securities Exchange Act of 1934 (“Act”) ¹ and Rule 19b-4 thereunder,² a proposed rule change to exempt certain spread transactions from its marketing fee and to amend the definition of deep-in-the-money options to include a spread traded at maximum value. The CBOE filed Amendment No. 1 to the proposed rule change on July 18, 2001.³

¹ 15 U.S.C. 78s(b)(1).

² 17 CFR 240.19b-4.

³ See letter from Steve Youhn, Legal Department, CBOE, to Nancy Sanow, Assistant Director, Division of Market Regulation, Commission, dated July 17, 2001. The CBOE originally submitted the filing pursuant to Section 19(b)(3)(A) of the Act, but submitted the amended filing pursuant to Section 19(b)(2) of the Act.

The proposed rule change, as amended, was published for comment in the Federal Register on August 8, 2001.⁴ The Commission received no comments on the proposal.

⁴ See Securities Exchange Act Release No. 44629 (July 31, 2001), 66 FR 41639.

The Commission finds that the proposed rule change, as amended, is consistent with the requirements of the Act and the rules and regulations thereunder applicable to a national securities exchange ⁵ and, in particular, the requirements of Section 6 of the Act ⁶ and the rules and regulations thereunder. The Commission finds that the proposed rule change, as amended, is consistent with Section 6(b)(4) of the Act ⁷ because its is designed to provide for the equitable allocation of reasonable dues, fees, and other charges among CBOE members.

⁵ In approving this proposed rule change, the Commission notes that it has considered the proposed rule's impact on efficiency, competition, and capital formation. 15 U.S.C. 78c(f).

⁶ 15 U.S.C. 78f.

⁷ 15 U.S.C. 78f(b)(4).

It is therefore ordered, pursuant to Section 19(b)(2) of the Act ⁸, that the proposed rule change, as amended, (File No. SR-CBOE-2001-36) be, and it hereby is, approved.

⁸ 15 U.S.C. 78s(b)(2).

For the Commission, by the Division of Market Regulation, pursuant to delegated authority.⁹
¹ 17 CFR 200.30-3(a)(12).
Margaret H. McFarland,
Deputy Secretary.

[FR Doc. 01-22984 Filed 9-12-01; 8:45 am]

BILLING CODE 8010-01-M